DEPARTMENT OF ENERGY

Federal Energy Regulatory Commission

Combined Notice of Filings #1

Take notice that the Commission received the following electric corporate filings:

Docket Numbers: EC12-133-000.

Applicants: Michigan Power Limited Partnership.

Description: Application for Authorization for Disposition of Jurisdictional Facilities and Request for Expedited Action of Michigan Power Limited Partnership.

Filed Date: 8/10/12.

Accession Number: 20120810-5081.

Comments Due: 5 p.m. ET 8/31/12.

Take notice that the Commission received the following exempt wholesale generator filings:

Docket Numbers: EG12-97-000.

Applicants: Energy Alternatives Wholesale, LLC.

Description: Notice of Self-Certification of Exempt Wholesale Generator Status of Energy Alternatives Wholesale LLC.

Filed Date: 8/9/12.

Accession Number: 20120809-5122.

Comments Due: 5 p.m. ET 8/30/12.

Take notice that the Commission received the following electric rate filings:

Docket Numbers: ER12-686-001.

Applicants: Citizens Sunrise Transmission LLC.

Description: Compliance Filing of Citizens Sunrise Transmission LLC to be effective 7/3/2012.

Filed Date: 8/10/12.

Accession Number: 20120810-5003.

Comments Due: 5 p.m. ET 8/31/12.

Docket Numbers: ER12-2312-001.

Applicants: Perigee Energy, LLC.

Description: Perigee Energy, LLC Rate Schedule FERC No. 1 Revision to be effective 8/10/2012.

Filed Date: 8/10/12.

Accession Number: 20120810-5008.

Comments Due: 5 p.m. ET 8/31/12.

Docket Numbers: ER12-2430-000.

Applicants: AP&G Holdings LLC.

Description: Baseline New to be effective 8/10/2012.

Filed Date: 8/9/12.

Accession Number: 20120809-5098.

Comments Due: 5 p.m. ET 8/30/12.

Docket Numbers: ER12-2431-000.

Applicants: Entergy Arkansas, Inc., Entergy Mississippi, Inc., Entergy Services, Inc.

Description: EMI-SMEPA 2nd Rev IA RS 251 to be effective 8/18/2011.

Filed Date: 8/9/12.

Accession Number: 20120809-5107.

Comments Due: 5 p.m. ET 8/30/12.

Docket Numbers: ER12-2433-000.

Applicants: NorthWestern Corporation.

Description: Service Agreement No. 644—Carter Grain Terminal Project to be effective 8/13/2012.

Filed Date: 8/10/12.

Accession Number: 20120810-5045.

Comments Due: 5 p.m. ET 8/31/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 10, 2012.
Nathaniel J. Davis, Sr.,
Deputy Secretary.

[FR Doc. 2012-20331 Filed 8-17-12; 8:45 am]

BILLING CODE 6717-01-P